FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 011654-013.

Title: Middle East Indian Subcontinent Discussion Agreement.

Parties: American President Lines; A.P. Moller-Maersk A/S; China Shipping Navigation Co., Ltd. d/b/a Indotrans; CMA CGM S.A.; Contship Containerlines, a division of CP Ships (UK) Ltd.; MacAndrews & Company Limited; P&O Nedlloyd Limited; The National Shipping Company of Saudi Arabia; and United Arab Shipping Company (S.A.G.).

Filing Party: Wayne R. Rohde, Esq.; Sher & Blackwell, LLP; 1850 M Street, NW., Suite 900; Washington, DC 20036.

Synopsis: The amendment adds MacAndrews & Company Limited as a party to the agreement.

Agreement No.: 011737-016.

Title: The MCA Agreement.

Parties: Atlantic Container Line AB; Alianca Navegacao e Logistica Ltda.; Antillean Marine Shipping Corporation; A.P. Moller-Maersk A/S; China Shipping Container Lines Co., Ltd.; CMA CGM S.A.; Companhia Libra de Navegacao; Compania Sud Americana de Vapores S.A.; CP Ships (UK) Limited d/b/a ANZDL and d/b/a Contship Containerlines; CP Ships USA LLC d/b/a Italia Line, Lykes Lines, and TMM Lines; Crowley Liner Services, Inc.; Dole Ocean Cargo Express, Inc.; Hamburg-Süd; Hapag-Lloyd Container Linie; Hoegh Autoliners; Montemar Maritima S.A.; Norasia Container Line Limited; P&O Nedlloyd Limited; Safmarine Container Lines N.V.; Tropical Shipping & Construction Co., Ltd.; and Wallenius Wilhelmsen Lines AS.

Filing Party: James R. Halley, Esq.; Halley & Halley, P.A.; 328 Crandon Boulevard; Suite 224-225; Key Biscayne, Florida 33149.

Synopsis: The amendment adds China Ocean Shipping (Group) Company, Mitsui O.S.K. Lines, Ltd., and United Arab Shipping Company (S.A.G.) as members. It also republishes the agreement.

Agreement No.: 011852-020.

Title: Maritime Security Discussion Agreement.

Parties: China Shipping Container Lines, Co., Ltd.; CMA CGM, S.A.; Hyundai Merchant Marine Co., Ltd.; Kawasaki Kisen Kaisha, Ltd.; Nippon Yusen Kaisha; Yang Ming Marine Transport Corp.; Zim Integrated Shipping Services, Ltd.; Alabama State Port Authority; Ceres Terminals, Inc.; Cooper/T. Smith Stevedoring Co., Inc.; Husky Terminal & Stevedoring, Inc.; International Shipping Agency; International Transportation Service, Inc.; Lambert's Point Docks Inc.; Maher Terminals, Inc.; Marine Terminals Corp.; Massachusetts Port Authority; P&O Ports North America, Inc.; Port of Tacoma; South Carolina State Ports Authority; Stevedoring Services of America, Inc.; Trans Bay Container Terminal, Inc.; TraPac Terminals; Virginia International Terminals; and Yusen Terminals, Inc.

Filing Parties: Carol N. Lambos; The Lambos Firm; 29 Broadway, 9th Floor; New York, NY 10006 and Charles T. Carroll, Jr.; Carroll & Froelich, PLLC; 2011 Pennsylvania Avenue, NW., Suite 301; Washington, DC 20006.

Synopsis: The amendment deletes APM Terminals North America, Inc., Maersk Pacific Ltd., and Universal Maritime Service Corp. from the membership of the agreement.

Agreement No.: 011884-001.

Title: Hampton Road Chassis Pool II Agreement.

Parties: Virginia International Terminals, Inc., and the Ocean Carrier Equipment Management Association, for itself and on behalf of the following of its member lines: A.P. Moller-Maersk A/S; APL Co. Pte. Ltd.; American President Lines, Ltd.; Atlantic Container Line; Australia-New Zealand Direct Line, a division of CP Ships (UK) Limited; CMA CGM, S.A.; Compania Sudamericana de Vapores, S.A.; Contship Containerlines, a division of CP Ships (UK) Limited; COSCO Containerlines Company Limited; Evergreen Marine Corp. (Taiwan) Ltd.; Hanjin Shipping Co., Ltd.; Hamburg-Südamerikanische Dampfschifffahrts-Gesellschaft KG; Hapag-Lloyd ContainerLinie GmbH; Hyundai Merchant Marine Co. Ltd.; Kawasaki Kisen Kaisha, Ltd.; CP Ships USA, LLC; Mitsui O.S.K. Lines Ltd.; Nippon Yusen Kaisha Line; Orient Overseas Container Line Limited; P&O Nedlloyd Limited; P&O Nedlloyd B.V.; and Yangming Marine Transport Corp.

Filing Party: Wayne R. Rohde, Esq.; Sher & Blackwell LLP; 1850 M Street, NW., Suite 900; Washington, DC 20036.

Synopsis: The amendment changes Lykes Lines Limited LLC's name to CP Ships USA, LLC and deletes TMM Lines Limited LLC as a party to the agreement.

By Order of the Federal Maritime Commission.

Dated: July 22, 2005.
Karen V. Gregory,
Assistant Secretary.

[FR Doc. 05-14869 Filed 7-26-05; 8:45 am]

BILLING CODE 6730-01-P